ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Tuesday and Wednesday, July 10-11, 2012 on the times and location listed below.

DATES: The schedule of events is as follows:

Tuesday, July 10, 2012

9:30-Noon Technical Programs Committee

1:30-2:00 p.m. Budget Committee

2:00-2:30 p.m. Planning and Evaluation Committee

2:45-4:30 p.m. Ad Hoc Committee Meetings: Closed to Public

Wednesday, July 11, 2012

1:30-3:00 p.m. Board Meeting

ADDRESSES: Meetings will be held at the Access Board Conference Room, 1331 F Street NW., Suite 800, Washington, DC 20004.

FOR FURTHER INFORMATION CONTACT: For further information regarding the meetings, please contact David Capozzi, Executive Director, (202) 272-0010 (voice); (202) 272-0054 (TTY).

SUPPLEMENTARY INFORMATION: The Board meeting scheduled on the afternoon of Wednesday, July 11, 2012 will be webcast live; visit the Access Board's main Web site at www.access-board.gov for further details. For this meeting session, the Access Board will consider the following agenda items:

• Approval of the draft March 14, 2012 meeting minutes (vote)

• Technical Programs Committee Report

• Budget Committee Report (vote)

• Planning and Evaluation Committee Report (vote)

• Ad Hoc Committee Reports

○ Ad Hoc Committee on Passenger Vessels (vote)

○ Ad Hoc Committee on Outdoor Developed Areas (vote)

• Executive Director's Report

• Public Comment, Open Topics

All meetings are accessible to persons with disabilities. An assistive listening system, computer assisted real-time transcription (CART), and sign language interpreters will be available at the Board meeting and committee meetings. Persons attending Board meetings are requested to refrain from using perfume, cologne, and other fragrances for the comfort of other participants (see www.access-board.gov/about/policies/fragrance.htm for more information).

David M. Capozzi,
Executive Director.

[FR Doc. 2012-14914 Filed 6-18-12; 8:45 am]

BILLING CODE 8150-01-P